DEPARTMENT OF HEALTH AND HUMAN SERVICES

Substance Abuse and Mental Health Services Administration

Fiscal Year (FY) 2024 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the five eligible grant recipients funded in FY22 and FY23 under the Grants to Prevent Prescription Drug/Opioid Overdose Program (PDO), Notice of Funding Opportunity (NOFO) SP-21-002. Recipients may receive up to $279,266 each for a total of $1,396,330 across the program. These recipients have a project end date for use of these supplemental funds of September 29, 2025. The supplemental funding will be used to fund a comprehensive Training of Trainer (ToT) model to enhance workforce development and capacity in the arena of preventing prescription drug/overdose related deaths and adverse events within existing projects funded under the PDO program.

FOR FURTHER INFORMATION CONTACT: Shannon Hastings, NOFO Lead, Division of Targeted Prevention, Center for Substance Abuse Prevention, Substance Abuse and Mental Health Services Administration, 5600 Fishers Lane, Rockville, MD 20857, email: DTP-NOFO@samhsa.hhs.gov, telephone: (240) 276-1869.

SUPPLEMENTARY INFORMATION:

Funding Opportunity Title: FY 2021 Grants to Prevent Prescription Drug/Opioid Overdose-Related Deaths (PDO) SP-21-002.

Assistance Listing Number: 93.243.

Authority: Section 516 of the Public Health Service Act, as amended, 42 U.S.C. 290bb-22.

Justification: These supplement awards will be offered to the FY22 and FY23 cohorts under SP-21-002. Supplemental funding will be awarded to these cohorts because they have over three years remaining in their awards to implement their projects. The cohorts, which are comprised of state grantees, will receive a larger supplemental award per recipient which will increase opportunity to implement the activities. These cohorts have implemented existing activities well positioned to be leveraged under the ToT model. These factors will benefit SAMHSA so that the agency will be able to track the effects of the ToT model over time. This work aligns with SAMHSA's goals of expanding access to naloxone and other opioid overdose reversal medications and enhances SAMHSA's naloxone saturation and overdose prevention efforts.

This is not a formal request for application. Assistance will only be provided to the 5 PDO grant recipients funded in FY22 and FY23 under the Grants to Prevent Prescription Drug/Opioid Overdose Program, NOFO (SP-21-002) based on the receipt of a satisfactory application and associated budget that is approved by a review group.

Dated: August 20, 2024.
Ann Ferrero,
Public Health Analyst.

[FR Doc. 2024-18943 Filed 8-23-24; 8:45 am]

BILLING CODE 4162-20-P